COMMISSION ON CIVIL RIGHTS

Notice of Public Meeting of the Minnesota Advisory Committee

AGENCY: U.S. Commission on Civil Rights.

ACTION: Announcement of meeting.

SUMMARY: Notice is hereby given, pursuant to the provisions of the rules and regulations of the U.S. Commission on Civil Rights (Commission) and the Federal Advisory Committee Act (FACA) that a meeting of the Minnesota Advisory Committee (Committee) to the Commission will be held at 11:00 a.m. (Central Time) September 11, 2017. The purpose of the meeting is for the Committee to discuss and likely vote on project topic of study.

DATES: The meeting will be held on Wednesday, September 6, 2017, at 11:00 p.m. CDT.

PUBLIC CALL INFORMATION:

Dial: 877-718-5106

Conference ID: 4885819

FOR FURTHER INFORMATION CONTACT: Carolyn Allen at callen@usccr.gov or (312) 353-8311.

SUPPLEMENTARY INFORMATION: This meeting is available to the public through the following toll-free call-in number: 877-718-5106, conference ID number: 4885819. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Members of the public are entitled to make comments during the open period at the end of the meeting. Members of the public may also submit written comments; the comments must be received in the Regional Programs Unit within 30 days following the meeting. Written comments may be mailed to the U.S. Commission on Civil Rights, Regional Programs Unit, 55 West Monroe Street, Suite 410, Chicago, IL 60603. They may be faxed to the Commission at (312) 353-8324, or emailed Carolyn Allen at callen@usccr.gov. Persons who desire additional information may contact the Regional Programs Unit at (312) 353-8311.

Records and documents discussed during the meeting will be available for public viewing prior to and after the meeting at https://facadatabase.gov/committee/meetings.aspx?cid=256. Please click on the “Meeting Details” and “Documents” links. Records generated from this meeting may also be inspected and reproduced at the Regional Programs Unit, as they become available, both before and after the meeting. Persons interested in the work of this Committee are directed to the Commission's Web site, http://www.usccr.gov, or may contact the Regional Programs Unit at the above email or street address.

Agenda

I. Welcome

II. Approval of Minutes

III. Discussion on Draft Report on “Responses to 21st Century Policing in Minnesota”

IV. Public Comment

V. Next Steps

VI. Adjournment

Exceptional Circumstance: Pursuant to 41 CFR 102-3.150, the notice for this meeting is given less than 15 calendar days prior to the meeting because of the exceptional circumstance of DFO capacity that required rescheduling meeting to this date.

Dated: August 30, 2017.
David Mussatt,
Supervisory Chief, Regional Programs Unit.

[FR Doc. 2017-18757 Filed 9-5-17; 8:45 am]

BILLING CODE P